DEPARTMENT OF ENERGY

Federal Energy Regulatory Commission

[Docket No. RD22-5-000]

Commission Information Collection Activities (FERC-725D(1)); Comment Request

AGENCY: Federal Energy Regulatory Commission, Department of Energy.

ACTION: Notice of information collection and request for comments.

SUMMARY: In compliance with the requirements of the Paperwork Reduction Act of 1995, the Federal Energy Regulatory Commission (Commission or FERC) is soliciting public comment on a new information collection, FERC-725D(1), Mandatory Reliability Standards FAC-001-4 and FAC-002-4. This notice will be part of an information collection request that will be submitted to the Office of Management and Budget (OMB) for a review of the information collection requirements.

DATES: Comments on the collection of information are due June 15, 2023.

ADDRESSES: Send written comments on FERC-725D(1) to OMB through www.reginfo.gov/public/do/PRAMain, Attention: Federal Energy Regulatory Commission Desk Officer. Please identify the OMB control number (1902-NEW) in the subject line. Your comments should be sent within 30 days of publication of this notice in the Federal Register.

Please submit copies of your comments (identified by Docket No. RD22-5-000) to the Commission as noted below. Electronic filing through https://www.ferc.gov is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (including courier) delivery: Deliver to: Federal Energy Regulatory Commission, 12225 Wilkins Avenue, Rockville, MD 20852.

Instructions:

OMB submissions must be formatted and filed in accordance with submission guidelines at www.reginfo.gov/public/do/PRAMain; Using the search function under the “Currently Under Review field,” select Federal Energy Regulatory Commission; click “submit” and select “comment” to the right of the subject collection.

FERC submissions must be formatted and filed in accordance with submission guidelines at: https://www.ferc.gov. For user assistance, contact FERC Online Support by email at ferconlinesupport@ferc.gov, or by phone at: (866) 208-3676 (toll-free).

Docket: Users interested in receiving automatic notification of activity in this docket or in viewing/downloading comments and issuances in this docket may do so at https://www.ferc.gov.

FOR FURTHER INFORMATION CONTACT: Ellen Brown may be reached by email at DataClearance@FERC.gov and telephone at (202) 502-8663.

SUPPLEMENTARY INFORMATION: Title: FERC-725D(1), RD22-5-000, Mandatory Reliability Standards FAC-001-4 and FAC-002-4.

OMB Control No.: 1902-NEW.

Respondents: Transmission owners and generator owners for Reliability Standard FAC-001-4. Planning coordinators for Reliability Standard FAC-002-4.¹

¹ The NERC Glossary, at https://www.nerc.com/pa/Stand/Glossary%20of%20Terms/Glossary_of_Terms.pdf, defines these terms. A transmission owner (TO) is the entity that owns and maintains transmission facilities. A generator owner (GO) is the entity that owns and maintains generating units. A planning coordinator, formerly known as a planning authority (PA/PC), is the responsible entity that coordinates and integrates transmission facilities, service plans, resource plans, and protection systems.

Frequency of Information Collection: Once during years 1 and 2. On occasion during year 3 and beyond.

Abstract: The Facilities Design, Connections, and Maintenance Reliability Standards address topics such as facility interconnection requirements, facility ratings, system operating limits, and transfer capabilities. These Reliability Standards are designated with the prefix “FAC.”

On November 23, 2002 the Commission published an order approving new Reliability Standards FAC-001-4 and FAC-002-4 (87 FR 71602). The Commission approved those new standards to help ensure appropriate coordination and communication regarding the interconnection of facilities.

At present, the collections of information associated with all “FAC” Reliability Standards are authorized under FERC-725D (OMB Control Number 1902-0247). Ordinarily, the Commission would ask OMB to approve the collections of information associated with the new Reliability Standards as revisions of FERC-725D. However, another information collection request pertaining to FERC-725D is pending at OMB,² and only one request per information collection is allowed to be pending at OMB at the same time. FERC-725D(1) is a temporary placeholder number to avoid conflicting with the pending request already submitted to OMB regarding FERC-725D.

² That pending request would not affect FAC-001-3 or FAC-002-3, the predecessors to the Reliability Standards approved by the Commission in its November 23, 2022 order.

Previous Reliability Standard FAC-001-003 required transmission owners and generator owners to complete coordinated studies on new or “materially modified” existing interconnections. As approved in the November 23, 2022 order, FAC-001-4 requires coordinated studies of “qualified changes” in interconnections instead of “materially modified” interconnections. This revision is intended to prevent confusion with the Commission-defined term “Material Modification” in pro forma interconnection procedures and agreements.³ The term “qualified changes” refers to changes in existing interconnected facilities that can have reliability impacts and helps ensure that they are properly addressed in interconnection requirements and studies.

³ The regulation at 18 CFR 35.28(c)(1) requires every public utility that owns, controls, or operates facilities used for the transmission of electric energy in interstate commerce to have on file with the Commission an open access transmission tariff consisting of the pro forma tariff promulgated by the Commission, or such other tariff as may be approved by the Commission. The regulation at 18 CFR 35.28(f)(1) requires every public utility that is required to have on file a non-discriminatory open access transmission tariff to amend such tariff by adding the standard interconnection procedures and agreement and the standard small generator interconnection procedures and agreement required by the Commission.

In the November 23 order, the Commission also revised Requirement R6 of existing Reliability Standard FAC-002-3 by authorizing the planning coordinator to define the term “qualified change” and requiring public posting of the definition.

Necessity of Information: Mandatory.

Internal Review: The Commission has reviewed the collections of information associated with the rulemaking in Docket No. RD22-5-000, and has determined that the described information collection activities are necessary. These requirements conform to the Commission's need for efficient information collection, communication, and management within the energy industry.

Estimate of Annual Burden: The responsibilities of applicable entities for FAC-001-4 (i.e., transmission owners and generator owners) are the same as those approved for Reliability Standard FAC-001-3 in FERC-725D. Table 1, below, accordingly shows the same burdens as approved in FERC-725D, with updated costs.

⁴ The Commission staff estimates that the industry's hourly cost for wages plus benefits is similar to the Commission's $91.00 FY 2022 average hourly cost for wages and benefits.

Table 1—Estimated Burdens for FAC-001-4
Types of responses | Types and numbers of respondents | Number of annual responses per respondent | Total number of responses | Average number of burden hours and cost per response ⁴ | Total burden hours and cost
A | B | C | D (Column B × Column C) | E | F (Column D × Column E)
Documentation & Updates | 498 GOs/TOs | 1 | 498 | 34 hrs.; $3,094 | 16,932 hrs. $1,491,672.
Evidence Retention | 498 GOs/TOs | 1 | 498 | 1 hr.; $91.00 | 498 hrs.; $45,318.

Under, FAC-002-4, the new collection FERC-725D(1) represents a minor additional burden to planning coordinators, due to the requirement that they develop the definition of “qualified change” for new and existing interconnections of generation, transmission or electricity end user facilities. This burden is expected to be greater in years one and two than in year three and beyond for FAC-002-4. The burden and cost estimates for FAC-002-4 are based on the increase in the reporting and recordkeeping burden imposed by the revised Reliability Standards. Our estimates are based on the NERC Compliance Registry as of September 16, 2022, which indicates 63 planning coordinators.

Table 2—Estimated Burdens for FAC-002-4
Type and numbers of respondents | Number of annual responses per respondent | Total number of responses | Average number of burden hours and cost per response | Total burden hours and cost
A | B | C (Column A × Column B) | D | E (Column C × Column D)
63 PA/PCs Years 1 and 2 | 1 | 63 | 120 hrs.; $7,200 | 7,560 hrs.; $453,600.
63 PA/PCs Ongoing, beginning in Year 3 | 1 | 63 | 40 hrs.; $2,520 | 2,520 hrs.; $158,760.

Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: May 9, 2023.
Kimberly D. Bose,
Secretary.

[FR Doc. 2023-10351 Filed 5-15-23; 8:45 am]

BILLING CODE 6717-01-P